DEPARTMENT OF STATE

[Public Notice: 11593]

Designation of Segunda Marquetalia, Luciano Marin Arango, Hernan Dario Velasquez Saldarriaga, and Henry Castellanos Garzon as Specially Designated Global Terrorists

Acting under the authority of and in accordance with section 1(a)(ii)(A) of E.O. 13224 of September 23, 2001, as amended by E.O. 13268 of July 2, 2002, E.O. 13284 of January 23, 2003, and E.O. 13886 of September 9, 2019, I hereby determine that the person known as Segunda Marquetalia, also known as New Marquetalia, also known as Second Marquetalia, also known as La Nueva Marquetalia, also known as FARC dissidents Segunda Marquetalia, also known as Revolutionary Armed Forces of Colombia Dissidents Segunda Marquetalia, also known as FARC-D Segunda Marquetalia, also known as Grupo Armado Organizado Residual Segunda Marquetalia, also known as GAO-R Segunda Marquetalia, also known as Residual Organized Armed Group Segunda Marquetalia, also known as Armed Organized Residual Group Segunda Marquetalia, is a foreign person that has committed, attempted to commit, poses a significant risk of committing, or has participated in training to commit acts of terrorism that threaten the security of U.S. nationals or the national security, foreign policy, or economy of the United States.

Acting under the authority of and in accordance with section 1(a)(ii)(B) of E.O. 13224 of September 23, 2001, as amended by E.O. 13268 of July 2, 2002, E.O. 13284 of January 23, 2003, and E.O. 13886 of September 9, 2019, I hereby determine that the persons known as Luciano Marin Arango, also known as Ivan Marquez, also known as Ivan Marques; Hernan Dario Velasquez Saldarriaga, also known as Hernan Dario Velasquez, also known as El Paisa, also known as Oscar, also known as Carlos Alberto Garcia, also known as Paisa, also known as Hermides Buitrago, also known as Oscar Montero, also known as Antonio Rodríguez Sunce; and Henry Castellanos Garzon, also known as Romana, also known as Edison Romana, are leaders of Segunda Marquetalia, a group whose property and interests in property are concurrently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Authority: E.O. 13224, 66 FR 49079, 3 CFR, 2001 Comp., p. 786.

Dated: November 18, 2021.
Antony J. Blinken,
Secretary of State.

[FR Doc. 2021-26089 Filed 11-30-21; 8:45 am]

BILLING CODE 4710-AD-P